DEPARTMENT OF COMMERCE

International Trade Administration

[A-570-896]

Magnesium Metal From the People's Republic of China: Final Results of the 2008-2009 Antidumping Duty Administrative Review of the Antidumping Duty Order

AGENCY: Import Administration, International Trade Administration, Department of Commerce.

SUMMARY: On April 21, 2010, the Department of Commerce (“Department”) published the preliminary results in the 2008-2009 antidumping duty administrative review of magnesium metal from the People's Republic of China (“PRC”).¹ The period of review (“POR”) is April 1, 2008, through March 31, 2009. We have determined that Tianjin Magnesium International Co., Ltd. (“TMI”), the only respondent in this review, made sales in the United States at prices below normal value (“NV”). There are no other respondents covered by this review. We invited interested parties to comment on our Preliminary Results. Based on our analysis of the comments received, we made changes to our margin calculations for TMI. The final dumping margin for this review is listed in the “Final Results Margins” section below.

¹ See Magnesium Metal from the People's Republic of China: Preliminary Results of the 2008-2009 Administrative Review of the Antidumping Duty Order, 75 FR 20817 (April 21, 2010) (“Preliminary Results”).

DATES: Effective Date: October 25, 2010.

FOR FURTHER INFORMATION CONTACT: Laurel LaCivita, Sergio Balbontin, Eve Wang, or Eugene Degnan, AD/CVD Operations, Office 8, Import Administration, International Trade Administration, U.S. Department of Commerce, 14th Street and Constitution Avenue, NW., Washington, DC 20230; telephone: (202) 482-4243, (202) 482-6478, (202) 482-6231 and (202) 482-0414, respectively.

Background

On April 21, 2010, the Department published its Preliminary Results in the antidumping duty administrative review of magnesium metal from the People's Republic of China (“PRC”).² On April 30, 2010, US Magnesium LLC (“Petitioner”) requested a hearing for issues raised in the case and rebuttal briefs.

² See Preliminary Results.

On May 14, 2010, all parties (Petitioner and TMI) submitted publicly available surrogate value data to value TMI's factors of production. On May 24, parties submitted rebuttal comments addressing the May 14, 2010 submissions. On July 14, 2010, the Department re-opened the record to place additional wage rate information on the record for consideration in the final results, and requested parties to provide comments on that data in their case and rebuttal briefs.

We received the case briefs from Petitioner and TMI on July 22, 2010, and rebuttal briefs on July 27, 2010. In addition, on August 26, 2010, TMI provided comments on the Department's July 14, 2010, wage rate information. On August 30, 2010, Petitioner provided rebuttal comments to TMI's wage rate comment.

On August 18, 2010, the Department extended the deadline for the final results of review to October 18, 2010.³ The Department held a public hearing on September 1, 2010, which included discussion regarding the wage rate information submitted by the parties subsequent to the case and rebuttal briefs.

³ See Magnesium Metal from the People's Republic of China; Extension of Time for the Final Results of the Antidumping Duty Administrative Review, 75 FR 50992 (August 18, 2010).

Analysis of Comments Received

All issues raised in the case and rebuttal briefs filed by parties in this review are addressed in the Memorandum from Susan H. Kuhbach, Acting Deputy Assistant Secretary for Antidumping and Countervailing Duty Operations, to Ronald K. Lorentzen, Deputy Assistant Secretary for Import Administration, regarding, Magnesium Metal from the People's Republic of China: Issues and Decision Memorandum for the Final Results of the 2008-2009 Administrative Review, dated October 18, 2010 (“Issues and Decision Memorandum”), which is hereby adopted by this notice. A list of the issues that parties raised and to which we responded in the Issues and Decision Memorandum follows as an appendix to this notice. The Issues and Decision Memorandum is a public document and is on file in the Central Records Unit (“CRU”), Main Commerce Building, Room 7046, and is also accessible on the Web at http://ia.ita.doc.gov/frn. The paper copy and electronic version of the Issues and Decision Memorandum are identical in content.

Verification

As provided in section 782(i) of the Tariff Act of 1930, as amended (“the Act”), we verified the information submitted by TMI for use in our final results of review.⁴ We used standard verification procedures, including examination of relevant accounting and production records, as well as original source documents provided by TMI.

⁴ See Memorandum to Wendy J. Frankel, “Antidumping Duty Administrative Review of Magnesium Metal from the People's Republic of China: Verification of the Sales and Factors of Production of Tianjin Magnesium Industries, (“TMI Verification Report”)” dated July 1, 2010, on the record of this review CRU, Room 7046 of the main Department building.

Period of Review

The POR is April 1, 2008, through March 31, 2009.

Scope of the Order

The product covered by this antidumping duty order is magnesium metal from the PRC, which includes primary and secondary alloy magnesium metal, regardless of chemistry, raw material source, form, shape, or size. Magnesium is a metal or alloy containing by weight primarily the element magnesium. Primary magnesium is produced by decomposing raw materials into magnesium metal. Secondary magnesium is produced by recycling magnesium-based scrap into magnesium metal. The magnesium covered by this order includes blends of primary and secondary magnesium.

The subject merchandise includes the following alloy magnesium metal products made from primary and/or secondary magnesium including, without limitation, magnesium cast into ingots, slabs, rounds, billets, and other shapes; magnesium ground, chipped, crushed, or machined into rasping, granules, turnings, chips, powder, briquettes, and other shapes; and products that contain 50 percent or greater, but less than 99.8 percent, magnesium, by weight, and that have been entered into the United States as conforming to an “ASTM Specification for Magnesium Alloy” ⁵ and are thus outside the scope of the existing antidumping orders on magnesium from the PRC (generally referred to as “alloy” magnesium).

⁵ The meaning of this term is the same as that used by the American Society for Testing and Materials in its Annual Book for ASTM Standards: Volume 01.02 Aluminum and Magnesium Alloys.

The scope of this order excludes: (1) All forms of pure magnesium, including chemical combinations of magnesium and other material(s) in which the pure magnesium content is 50 percent or greater, but less than 99.8 percent, by weight, that do not conform to an “ASTM Specification for Magnesium Alloy” ⁶; (2) magnesium that is in liquid or molten form; and (3) mixtures containing 90 percent or less magnesium in granular or powder form by weight and one or more of certain non-magnesium granular materials to make magnesium-based reagent mixtures, including lime, calcium metal, calcium silicon, calcium carbide, calcium carbonate, carbon, slag coagulants, fluorspar, nephaline syenite, feldspar, alumina (Al203), calcium aluminate, soda ash, hydrocarbons, graphite, coke, silicon, rare earth metals/mischmetal, cryolite, silica/fly ash, magnesium oxide, periclase, ferroalloys, dolomite lime, and colemanite.⁷

⁶ The material is already covered by existing antidumping orders. See Notice of Antidumping Duty Orders: Pure Magnesium from the People's Republic of China, the Russian Federation and Ukraine; Notice of Amended Final Determination of Sales at Less Than Fair Value: Antidumping Duty Investigation of Pure Magnesium from the Russian Federation, 60 FR 25691 (May 12, 1995); and Antidumping Duty Order: Pure Magnesium in Granular Form from the People's Republic of China, 66 FR 57936 (November 19, 2001).

⁷ This third exclusion for magnesium-based reagent mixtures is based on the exclusion for reagent mixtures in the 2000-2001 investigations of magnesium from China, Israel, and Russia. See Final Determination of Sales at Less Than Fair Value: Pure Magnesium in Granular Form From the People's Republic of China, 66 FR 49345 (September 27, 2001); Final Determination of Sales at Less Than Fair Value: Pure Magnesium From Israel, 66 FR 49349 (September 27, 2001); Final Determination of Sales at Not Less Than Fair Value: Pure Magnesium From the Russian Federation, 66 FR 49347 (September 27, 2001). These mixtures are not magnesium alloys, because they are not combined in liquid form and cast into the same ingot.

The merchandise subject to this order is classifiable under items 8104.19.00, and 8104.30.00 of the Harmonized Tariff Schedule of the United States (“HTSUS”). Although the HTSUS items are provided for convenience and customs purposes, the written description of the merchandise is dispositive.

Changes Since the Preliminary Results

Based on an analysis of the comments received, the Department has made certain changes in the margin calculation. For the final results, the Department has made the following changes:

• We revised our determination of the surrogate financial ratios to include the financial statements of Gujarat Foils Ltd. with those of Sudal Industries, Ltd., which we used in the preliminary results of review. See Comment 1 of the accompanying Issues and Decision Memorandum.

• We revised the surrogate wage rate. See Comments 3 through 6 of the accompanying Issues and Decision Memorandum.

• We revised the surrogate value for brokerage and handling. See Comments 8 of the accompanying Issues and Decision Memorandum.

Final Results Margin

We determine the weighted-average dumping margin for TMI for the period April 1, 2008, through March 31, 2009, to be 0.00 percent.

Assessment Rates

Pursuant to section 751(a)(2)(A) of the Act and 19 CFR 351.212(b), the Department will determine, and U.S. Customs and Border Protection (“CBP”) shall assess, antidumping duties on all appropriate entries of subject merchandise in accordance with the final results of this review. For assessment purposes, we calculated importer (or customer)-specific assessment rates for merchandise subject to this review. Where appropriate, we calculated an ad valorem rate for each importer (or customer) by dividing the total dumping margins for reviewed sales to that party by the total entered values associated with those transactions. For duty-assessment rates calculated on this basis, we will direct CBP to assess the resulting ad valorem rate against the entered customs values for the subject merchandise. Where appropriate, we calculated a per-unit rate for each importer (or customer) by dividing the total dumping margins for reviewed sales to that party by the total sales quantity associated with those transactions. For duty-assessment rates calculated on this basis, we will direct CBP to assess the resulting per-unit rate against the entered quantity of the subject merchandise. Where an importer (or customer)-specific assessment rate is de minimis (i.e., less than 0.50 percent), the Department will instruct CBP to assess that importer (or customer's) entries of subject merchandise without regard to antidumping duties, in accordance with 19 CFR 351.106(c)(2). The Department intends to issue assessment instructions to CBP 15 days after the date of publication of these final results of review.

Cash Deposit Requirements

The following cash deposit requirements will be effective upon publication of the final results of this administrative review for all shipments of the subject merchandise entered, or withdrawn from warehouse, for consumption on or after the publication date, as provided for by section 751(a)(2)(C) of the Act: (1) For TMI, the cash deposit rate will be 0.00 percent, as listed above; (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 141.49 percent; and (4) for all non-PRC exporters of subject merchandise which have not received their own rate, the cash deposit rate will be the rate applicable to the PRC exporter that supplied that non-PRC exporter. The deposit requirements shall remain in effect until further notice.

Notification to Importers

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification to Interested Parties

This notice also serves as a reminder to parties subject to administrative protective orders (“APOs”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Disclosure

We will disclose the calculations performed within five days of the date of publication of this notice to parties in this proceeding in accordance with 19 CFR 351.224(b).

We are issuing and publishing the final results and notice in accordance with sections 751(a)(1) and 777(i)(1) of the Act.

Dated: October 18, 2010.
Ronald K. Lorentzen,
Deputy Assistant Secretary for Import Administration.

Appendix I

Comment 1: The Selection of Surrogate Financial Statements

Comment 2: Information Contained in Petitioner's Case Brief Which is Not on the Record of This Review

Comment 3: Whether the Department Should Calculate the Surrogate Value for Labor Using Multiple Surrogate Countries or a Single Country, India

Comment 4: Whether the Department Should Expand the List Of Economically Comparable Countries

Comment 5: Whether To Use ILO Wage Data Contemporaneous With the POR Rather Than Using Pre-POR Data and Adjusting for Inflation

Comment 6: Whether the Department Should Exclude Indian Data from the Wage Rate Calculation

Comment 7: The Source of the Surrogate Value Foreign Inland Freight

Comment 8: The Surrogate Value for Brokerage and Handling

Comment 9: Valuation of Flux

Comment 10: The Accuracy of TMI's Reported Flux Consumption

Comment 11: The Appropriate HTS Classification for Magnesium Waste and Scrap

[FR Doc. 2010-26931 Filed 10-22-10; 8:45 am]

BILLING CODE P